DEPARTMENT OF TRANSPORTATION

Surface Transportation Board

[STB Finance Docket No. 34785]

Reading Blue Mountain and Northern Railroad Company—Operation Exemption—Locust Valley Line

Reading Blue Mountain and Northern Railroad Company (RBMN), a Class III rail carrier, has filed a verified notice of exemption under 49 CFR 1150.41 to operate a 5-mile line of railroad owned by Locust Valley Coal Company d/b/a Locust Valley Line (Locust Valley).¹ The rail line extends between milepost 0.0, at Laurel Jct. (also known as Morea Jct.), in Delano Township, and milepost 5.5 beyond Newton Jct., just south of Mahanoy City, Schuylkill County, PA. RBMN will operate over the rail line pursuant to an operating agreement with Locust Valley.²

¹ Locust Valley was granted an exemption to acquire the line in Locust Valley Coal Company :d/b/a Locust Valley Line—Acquisition Exemption—Rail Lines in Schuylkill County, PA, STB Finance Docket No. 34642 (STB served Jan. 21, 2005).

² RBMN states that the line is currently out of service, but that it previously operated over the northern mile of the line “as a spur” to serve a single customer.

RBMN certifies that its projected annual revenues as a result of this transaction will not result in RBMN becoming a Class II or Class I rail carrier. In addition, RBMN states that its current annual revenues exceed $5 million. This triggers the 60-day advance labor notice requirement at 49 CFR 1150.42(e). RBMN has requested a waiver of that requirement. The waiver request will be addressed by the Board in a separate decision in this proceeding.

As a result, the earliest this transaction will be able to be consummated will be either 60 days after RBMN certifies that it has satisfied the requirements of section 1150.42(e) or the effective date of a Board decision granting the requested waiver of the requirements of that provision.

If the notice contains false or misleading information, the exemption is void ab initio. Petitions to revoke the exemption under 49 U.S.C. 10502(d) may be filed at any time. The filing of a petition to revoke will not automatically stay the transaction.

An original and 10 copies of all pleadings, referring to STB Finance Docket No. 34785, must be filed with the Surface Transportation Board, 1925 K Street, NW., Washington, DC 20423-0001. In addition, one copy of each pleading must be served on Eric M. Hocky, Esquire, Gollatz, Griffin & Ewing, P.C., Four Penn Center, Suite 200, 1600 John F. Kennedy Blvd., Philadelphia, PA 19103-2808.

Board decisions and notices are available on our Web site at “http://www.stb.dot.gov.”

Decided: December 21, 2005.
By the Board, David M. Konschnik, Director, Office of Proceedings.
Vernon A. Williams,
Secretary.

[FR Doc. 05-24513 Filed 12-28-05; 8:45 am]

BILLING CODE 4915-01-P